DEPARTMENT OF COMMERCE

National Oceanic and Atmospheric Administration

RIN 0648-XA653

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Scallop Oversight Committee on September 13, 2011 to consider actions affecting New England fisheries in the exclusive economic zone (EEZ). Recommendations from this group will be brought to the full Council for formal consideration and action, if appropriate.

DATES: This meeting will be held on Tuesday, September 13, 2011 at 9 a.m.

ADDRESSES: The meeting will be held at the Courtyard by Marriott, 225 McClellan Highway, East Boston, MA 02128; telephone: (617) 569-5250; fax: (617) 569-5159.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The Committee will review input from the Scallop Plan Development Team (PDT) and the Scallop Advisory Panel related to Framework 23 to the Scallop Fishery Management Plan (FMP). The Committee will identify preferred alternatives for the full Council to consider at the final meeting for Framework 23 being held on September 26-29, 2011 in Danvers, MA. The Committee will also discuss recommendations related to potential 2012 Council work priorities for the Scallop FMP. Other business may also be discussed at this meeting. Specifically, the Scallop Committee may discuss potential accountability measures for bycatch of Southern New England (SNE) windowpane flounder in the event that the Council decides to allocate a sub-ACL of windowpane flounder to the scallop fishery in a future action under the Groundfish FMP.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard, Executive Director, at (978) 465-0492, at least 5 days prior to the meeting date.

Authority: 16 U.S.C. 1801 et seq.

Dated: August 18, 2011.
Tracey L. Thompson,
Acting Director, Office of Sustainable Fisheries, National Marine Fisheries Service.

[FR Doc. 2011-21541 Filed 8-22-11; 8:45 am]

BILLING CODE 3510-22-P